DEPARTMENT OF LABOR

Employment and Training Administration

Notice of Availability of Funds and Funding Opportunity Announcement for the Linking to Employment Activities Pre-release Specialized American Job Centers (AJCs)

AGENCY: Employment and Training Administration, Labor.

ACTION: Notice of Funding Opportunity Announcement (FOA).

Funding Opportunity Number: FOA-ETA-15-03.

SUMMARY: The Employment and Training Administration (ETA), U.S. Department of Labor, announces the availability of approximately $5 million in grant funds authorized by Section 171, Pilot and Demonstration Projects, of the Workforce Investment Act and Section 212 of the Second Chance Act of 2007 for Linking to Employment Activities Pre-release Specialized American Job Centers (AJCs) grants.

The purpose of this program is to provide locally incarcerated offenders with employability skills by providing them workforce services prior to release from local incarceration and linking them to a continuum of employment, training, education, and support services offered through their community-based AJCs post-release, as well as building connections to local employers that will enable transitioning offenders to secure employment pre-release.

The jail-based specialized AJCs will enable transitioning offenders to prepare for employment prior to release and continue with individual development and service plans in the community once released. The aim of these centers is to improve the workforce outcomes for transitioning offenders. These jail-based specialized AJCs will build upon the successful and effective strategies that currently exist in similar correctional facility-based one-stop centers across the country.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is April 3, 2015. Applications must be received no later than 4:00:00 p.m. Eastern Time.

FOR FURTHER INFORMATION CONTACT: Andrea Hill, 200 Constitution Avenue NW., Room N-4716, Washington, DC 20210; Telephone: 202-693-3542.

The Grant Officer for this FOA is Melissa Abdullah.

Signed: February 5, 2015 in Washington, DC.
Eric D. Luetkenhaus,
Grant Officer/Division Chief, Employment and Training Administration.

[FR Doc. 2015-02814 Filed 2-10-15; 8:45 am]

BILLING CODE 4510-FN-P